DEPARTMENT OF ENERGY

Federal Energy Regulatory Commission

Combined Notice of Filings #2

February 17, 2010.

Take notice that the Commission received the following electric corporate filings:

Docket Numbers: EC10-46-000.

Applicants: Wheelabrator Portsmouth Inc.

Description: Application of Wheelabrator Portsmouth Inc. for Authorization for Consolidation of Jurisdictional Facilities and Acquisition of an Existing Generation Facility and Request for Expedited Action.

Filed Date: 02/12/2010.

Accession Number: 20100212-5218.

Comment Date: 5 p.m. Eastern Time on Friday, March 5, 2010.

Take notice that the Commission received the following exempt wholesale generator filings:

Docket Numbers: EG10-22-000.

Applicants: EC&R Papalote Creek II, LLC.

Description: Notice of Self-Certification for Exempt Wholesale Generator Status of EC&R Papalote Creek II, LLC.

Filed Date: 02/12/2010.

Accession Number: 20100212-5217.

Comment Date: 5 p.m. Eastern Time on Friday, March 5, 2010.

Take notice that the Commission received the following electric rate filings:

Docket Numbers: ER98-2640-033; ER98-4590-030; ER99-1610-038.

Applicants: Public Service Company of Colorado; Southwestern Public Service Company.

Description: Northern States Power Company et al. submits change in status report compliance filing.

Filed Date: 02/12/2010.

Accession Number: 20100216-0223.

Comment Date: 5 p.m. Eastern Time on Friday, March 05, 2010.

Docket Numbers: ER01-3103-022.

Applicants: Astoria Energy LLC.

Description: Astoria Energy Submits Order 652 Notice of Non-Material Change in Status.

Filed Date: 02/11/2010.

Accession Number: 20100211-5036.

Comment Date: 5 p.m. Eastern Time on Thursday, March 4, 2010.

Docket Numbers: ER08-1056-003.

Applicants: Entergy Services, Inc.

Description: Compliance Filing of Entergy Services, Inc.

Filed Date: 02/12/2010.

Accession Number: 20100212-5228.

Comment Date: 5 p.m. Eastern Time on Friday, March 5, 2010.

Docket Numbers: ER08-1237-003; ER08-1288-006; ER07-357-007; ER03-1340-006; ER05-41-003; ER09-1302-001.

Applicants: Chanarambie Power Partners LLC, Fenton Power Partners I, LLC, Hoosier Wind Project, LLC, Northwest Wind Partners, LLC, Oasis Power Partners, LLC, Shiloh Wind Project 2, LLC, Wapsipinicon Wind Project, LLC.

Description: Chanarambie Power Partners, LLC et al. submits Substitute Fifth Revised Sheet 2 et al. to FERC Electric Tariff, Original Volume 1.

Filed Date: 02/12/2010.

Accession Number: 20100216-0083.

Comment Date: 5 p.m. Eastern Time on Friday, March 5, 2010.

Docket Numbers: ER09-1453-002.

Applicants: Gateway Energy Services Corporation.

Description: Gateway Energy Services Corporation Notice of non-material change in status.

Filed Date: 02/16/2010.

Accession Number: 20100216-5013.

Comment Date: 5 p.m. Eastern Time on Tuesday, March 9, 2010.

Docket Numbers: ER10-231-001.

Applicants: New York Independent System Operator Inc.

Description: New York Independent System Operator, Inc submits proposed revisions to its Market Administration and Control Area Services Tariff.

Filed Date: 02/12/2010.

Accession Number: 20100216-0219.

Comment Date: 5 p.m. Eastern Time on Friday, March 5, 2010.

Docket Numbers: ER10-239-001.

Applicants: PacifiCorp.

Description: PacifiCorp submits a Transmission Interconnection Agreement for Points of Delivery dated 10/26/09 designated as Rate Schedule FERC No. 654.

Filed Date: 02/12/2010.

Accession Number: 20100216-0218.

Comment Date: 5 p.m. Eastern Time on Friday, March 5, 2010.

Docket Numbers: ER10-251-002.

Applicants: Florida Power & Light Company.

Description: Compliance Electric Refund Report of Florida Power & Light Company.

Filed Date: 02/12/2010.

Accession Number: 20100212-5223.

Comment Date: 5 p.m. Eastern Time on Friday, March 5, 2010.

Docket Numbers: ER10-252-002.

Applicants: Florida Power & Light Company.

Description: Compliance Electric Refund Report of Florida Power & Light Company.

Filed Date: 02/12/2010.

Accession Number: 20100212-5222.

Comment Date: 5 p.m. Eastern Time on Friday, March 5, 2010.

Docket Numbers: ER10-266-002.

Applicants: Trans Bay Cable LLC.

Description: Trans Bay Cable LLC submits revisions to FERC Electric Tariff Original Volume No. 1.

Filed Date: 02/16/2010.

Accession Number: 20100216-0231.

Comment Date: 5 p.m. Eastern Time on Tuesday, March 9, 2010.

Docket Numbers: ER10-279-001.

Applicants: Midwest Independent Transmission System Operator, Inc.

Description: Midwest Independent Transmission System Operator, Inc submits Substitute First Revised Sheet 1228 et al. to its FERC Electric Tariff, Fourth Revised Volume 1 to be effective 3/1/10.

Filed Date: 02/12/2010.

Accession Number: 20100216-0216.

Comment Date: 5 p.m. Eastern Time on Friday, March 5, 2010.

Docket Numbers: ER10-320-001.

Applicants: PJM Interconnection, LLC.

Description: PJM Interconnection, LLC submits a minor revision to Section 362 Meter Corrections between Market Participants, et al. of the Amended and Restated Operation Agreement of PJM Interconnection, LLC etc.

Filed Date: 02/12/2010.

Accession Number: 20100216-0217.

Comment Date: 5 p.m. Eastern Time on Friday, March 5, 2010.

Docket Numbers: ER10-321-001.

Applicants: Allegheny Energy Supply Company, LLC.

Description: Allegheny Energy Supply Company LLC submits Second Revised Sheet No 2B effective 12/1/09.

Filed Date: 02/12/2010.

Accession Number: 20100216-0220.

Comment Date: 5 p.m. Eastern Time on Friday, March 5, 2010.

Docket Numbers: ER10-461-001.

Applicants: Aquilon Power Ltd.

Description: Aquilon Power Ltd submits Substitute Original Sheet 1 to FERC Electric Tariff, Volume 1 to be effective 2/28/10.

Filed Date: 02/12/2010.

Accession Number: 20100216-0224.

Comment Date: 5 p.m. Eastern Time on Monday, February 22, 2010.

Docket Numbers: ER10-518-001.

Applicants: Southwest Power Pool, Inc.

Description: Motion of Southwest Power Pool, Inc. to Withdraw the Doniphan Electric Cooperative Agreements.

Filed Date: 01/29/2010.

Accession Number: 20100129-5206.

Comment Date: 5 p.m. Eastern Time on Friday, February 19, 2010.

Docket Numbers: ER10-580-001.

Applicants: Silverhill Investments Corp.

Description: Silverhill Investments Corp. Clarifications to Notification of Jurisdictional Status.

Filed Date: 02/12/2010.

Accession Number: 20100212-5227.

Comment Date: 5 p.m. Eastern Time on Monday, February 22, 2010.

Docket Numbers: ER10-716-000.

Applicants: Algonquin Power Windsor Locks, LLC.

Description: Algonquin Power Windsor Locks LLC submits the Application of Algonquin for Order Accepting Rates for Filing and Granting Waivers and Blanket Approvals.

Filed Date: 02/12/2010.

Accession Number: 20100216-0227.

Comment Date: 5 p.m. Eastern Time on Friday, March 5, 2010.

Docket Numbers: ER10-727-000.

Applicants: AEP Retail Energy Partners LLC.

Description: Application of AEP Retail Energy Partners, LLC for Market- Based Rate Authority.

Filed Date: 02/12/2010.

Accession Number: 20100216-0226.

Comment Date: 5 p.m. Eastern Time on Friday, March 5, 2010.

Docket Numbers: ER10-730-000.

Applicants: Wheelabrator Portsmouth Inc.

Description: Petition of Wheelabrator Portsmouth Inc for order accepting market-based rate tariff for filing etc.

Filed Date: 02/12/2010.

Accession Number: 20100216-0232.

Comment Date: 5 p.m. Eastern Time on Friday, March 5, 2010.

Docket Numbers: ER10-731-000.

Applicants: MidAmerican Energy Company.

Description: MidAmerican Energy Company submits Original Service Agreement 2164 et al. to FERC Electric Tariff, Fourth Revised Volume 1 to be effective 2/1/10.

Filed Date: 02/12/2010.

Accession Number: 20100216-0213.

Comment Date: 5 p.m. Eastern Time on Friday, March 5, 2010.

Docket Numbers: ER10-732-000.

Applicants: Southern California Edison Company.

Description: Southern California Edison submits the Large Generator Interconnection Agreement among Solar Partners I.

Filed Date: 02/12/2010.

Accession Number: 20100216-0212.

Comment Date: 5 p.m. Eastern Time on Friday, March 5, 2010.

Docket Numbers: ER10-733-000.

Applicants: Pacific Gas and Electric Company.

Description: Pacific Gas and Electric Company submits acceptance and amendment to the Standard Large Generator Interconnection Agreement for the project known as the Colusa Generating Station etc.

Filed Date: 02/12/2010.

Accession Number: 20100216-0214.

Comment Date: 5 p.m. Eastern Time on Friday, March 5, 2010.

Docket Numbers: ER10-734-000.

Applicants: Arizona Public Service Company.

Description: Arizona Public Service Company submits amendment to Exhibit B to a 1991 Operation, Maintenance, and Replacement of Facilities Agreement with the Western Area Power Administration.

Filed Date: 02/12/2010.

Accession Number: 20100216-0211.

Comment Date: 5 p.m. Eastern Time on Friday, March 5, 2010.

Docket Numbers: ER10-736-000.

Applicants: Entergy Services, Inc.

Description: Entergy Arkansas, Inc submits First Revised Network Integration Transmission Service Agreement with the City of Osceola, Arkansas ESI requests effective 3/1/2010.

Filed Date: 02/12/2010

Accession Number: 20100216-0210

Comment Date: 5 p.m. Eastern Time on Friday, March 5, 2010

Docket Numbers: ER10-737-000

Applicants: Xcel Energy Services Inc.

Description: NSP Companies submits the proposed termination of various Service Agreement under NSP Companies, FERC Electric Tariff, Original Volume 4 with various counterparties etc.

Filed Date: 02/12/2010

Accession Number: 20100216-0209

Comment Date: 5 p.m. Eastern Time on Friday, March 5, 2010

Docket Numbers: ER10-738-000

Applicants: Southwest Power Pool, Inc

Description: Southwest Power Pool, Inc submits an executed Meter Agent Services Agreement between Kansas Power Pool as Market Participants and Sunflower Electric Power Corporation as Meter Agent.

Filed Date: 02/12/2010

Accession Number: 20100216-0208

Comment Date: 5 p.m. Eastern Time on Friday, March 5, 2010

Docket Numbers: ER10-739-000

Applicants: Southwest Power Pool, Inc.

Description: Southwest Power Pool, Inc submits an executed non- conforming Large Generator Interconnection Agreement between SPP as Transmission Provider, Kansas City Power & Light as Interconnection Customers et al.

Filed Date: 02/12/2010

Accession Number: 20100216-0207

Comment Date: 5 p.m. Eastern Time on Friday, March 5, 2010

Docket Numbers: ER10-740-000

Applicants: Xcel Energy Services Inc.

Description: Xcel Energy Services Inc submits the proposed reassignment of three Large Generator Interconnection Agreements, etc.

Filed Date: 02/12/2010

Accession Number: 20100216-0228

Comment Date: 5 p.m. Eastern Time on Friday, March 5, 2010

Docket Numbers: ER10-741-000

Applicants: ISO New England Inc.

Description: ISO New England Inc submits its Capital Projects Report and schedule of the unamortized costs of the ISO's funded capital expenditures for the quarter ending 12/31/09.

Filed Date: 02/12/2010

Accession Number: 20100216-0245

Comment Date: 5 p.m. Eastern Time on Friday, March 5, 2010

Docket Numbers: ER10-742-000

Applicants: Pacific Gas and Electric Company

Description: Pacific Gas and Electric Company submits for filing and acceptance a Notice of Termination for two Generator Special Facilities Agreements etc.

Filed Date: 02/12/2010

Accession Number: 20100216-0244

Comment Date: 5 p.m. Eastern Time on Friday, March 5, 2010

Docket Numbers: ER10-743-000

Applicants: NSTAR Electric Company

Description: NSTAR Electric Company submits Second Revised Sheet 44 of its Rate Schedule FERC 205, which is the Wholesale Distribution Service Agreement with the Massachusetts Port Authority.

Filed Date: 02/12/2010

Accession Number: 20100216-0243

Comment Date: 5 p.m. Eastern Time on Friday, March 5, 2010

Docket Numbers: ER10-744-000

Applicants: Elm Road Services LLC

Description: Elm Road Service, LLC notifies the Commission of the ERS Rate Schedule FERC No 1 (Test Power PPA) etc.

Filed Date: 02/12/2010

Accession Number: 20100216-0242

Comment Date: 5 p.m. Eastern Time on Friday, March 05, 2010

Docket Numbers: ER10-745-000

Applicants: PacifiCorp

Description: PacifiCorp submits a revised sheet to Attachment C of its Open Access Transmission Tariff to eliminate one inapplicable sentence.

Filed Date: 02/12/2010

Accession Number: 20100216-0241

Comment Date: 5 p.m. Eastern Time on Friday, March 5, 2010

Docket Numbers: ER10-746-000

Applicants: PJM Interconnection, L.L.C.

Description: PJM Interconnection, LLC submits an executed Wholesale Market Participation Agreement with FC Landfill Energy et al.

Filed Date: 02/12/2010

Accession Number: 20100216-0240

Comment Date: 5 p.m. Eastern Time on Friday, March 5, 2010

Docket Numbers: ER10-747-000

Applicants: Southern California Edison Company

Description: Southern California Company submits filing revised rate sheets to the Blythe Solar I Project Tie-Line Facilities Agreement between SCE and FSE Blythe I, LLC, Rate Schedule FERC 480.

Filed Date: 02/05/2010

Accession Number: 20100216-0239

Comment Date: 5 p.m. Eastern Time on Friday, February 26, 2010

Docket Numbers: ER10-748-000

Applicants: Renewable Energy Services of Ohio, LLC

Description: Ohio Edison Company et al. submits Wholesale Distribution Service Agreement with American Transmission Systems, Incorporated.

Filed Date: 02/05/2010

Accession Number: 20100216-0238

Comment Date: 5 p.m. Eastern Time on Friday, February 26, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-3796 Filed 2-24-10; 8:45 am]

BILLING CODE 6717-01-P